DEPARTMENT OF ENERGY

10 CFR Parts 429 and 430

[Docket No. EERE-2010-BT-TP-0021]

RIN 1904-AC08

Energy Conservation Program: Test Procedures for Residential Clothes Washers

Correction

In proposed rule document 2011-28543 appearing on pages 69870-69893 in the issue of November 9, 2011, make the following correction:

On page 69870, in the first column, the RIN No. in the heading is corrected to read as set forth above.

[FR Doc. C1-2011-28543 Filed 11-15-11; 8:45 am]

BILLING CODE 1505-01-D